DEPARTMENT OF HEALTH AND HUMAN SERVICES

Administration for Children and Families

Administration on Children, Youth and Families; Award Announcement

AGENCY: Administration on Children, Youth and Families, Administration for Children and Families, Department of Health and Human Services.

ACTION: Award announcement.

CFDA No.: 93.616.

SUMMARY: The Administration on Children, Youth and Families, Family and Youth Services Bureau (FYSB), herein announces the awarding of fifty supplemental awards in the amount of $5,733,115 to Fiscal Year (FY) 2006 Mentoring of Children of Prisoners (MCP) grantees.

Section 439 of the Social Security Act, as amended by the Child and Family Services Improvement Act of 2006 (Pub. L. 109-288) authorizes the Secretary of Health and Human Services (HHS) to award grants for the purpose of supporting the establishment or expansion and operation of community-based programs to provide one-on-one mentoring relationships between a child of incarcerated parent(s) and a caring, supportive adult mentor under the Mentoring Children of Prisoners Program (MCP).

The program is designed to reach the President's goal of establishing 100,000 mentor/mentee relationships between a caring adult and a young person whose parent(s) is incarcerated in a correctional facility by the end of FY 2008. This funding is requested for those grantees that have demonstrated the capacity to make quality matches and currently making significant process in reaching their match goal. One-third of the grantees have made over 50% of their three-year match goal within their first year. The fifty supplemental awards are important to helping our grantees reach more youth who are in need of a mentor.

The following agencies are receiving grant funds for a twelve month project period:

Boys II Men Mentoring TN | 90CV0235 | 77,806
YMCA of Greater Louisville, KY | 90CV0238 | 74,250
BBBS of San Diego County | 90CV0245 | 66,330
BBBS of Northeastern Arizona | 90CV0247 | 105,930
BBBS of Ventura County | 90CV0248 | 51,462
BBBS of Harrisonburg | 90CV0255 | 81,175
BBBS of the Heart of GA | 90CV0256 | 34,650
BBBS of Marin and Napa Counties | 90CV0258 | 177,219
Clemson Univ, SC | 90CV0259 | 170,963
Little Dixie Comm CAA, OK | 90CV0263 | 99,000
Serving Children & Adolescents | 90CV0264 | 105,000
BBBS of South Texas | 90CV0265 | 600,930
BBBS of Northern Nevada | 90CV0269 | 125,730
BBBS of Central Ohio | 90CV0270 | 329,701
BBBS Northwest, OR | 90CV0275 | 110,880
BBBS of the Capital Region | 90CV0277 | 125,075
BBBS of Morris, Bergen & Passaic, NJ | 90CV0278 | 97,000
Volunteers of America Western Washington | 90CV0279 | 33,880
Institute for Interactive Inst. MD | 90CV0283 | 105,928
Faith Temple Christian Ctr. FL | 90CV0284 | 86,130
City of Longview, TX | 90CV0286 | 91,080
Committed Partners OR | 90CV0287 | 74,250
Lac Courte Oreilles Bank of Lake Superior | 90CV0294 | 65,846
Youth in Action, Inc. | 90CV0296 | 86,130
BBBS of Florida | 90CV0298 | 449,254
BBBS of Southeastern PA | 90CV0300 | 623,700
BBBS of the Capital Region, PA | 90CV0302 | 71,280
Adams Cty Col for CY, MS | 90CV0305 | 30,414
BBBS of Delaware | 90CV0309 | 76,036
Hour Children, Inc. | 90CV0310 | 74,250
Indio Youth Task Force, CA | 90CV0311 | 105,930
ExodusTrans Comm, Inc. NY | 90CV0312 | 89,100
DeKalb County | 90CV0234 | 132,000
BBBS of Greater Charlotte, NC | 90CV0240 | 40,365
Youth Connections, Inc. GA | 90CV0241 | 164,441
Pittsburgh Ldrshp Fdntn, PA | 90CV0239 | 116,444
BBBS of Siouxland | 90CV0243 | 87,333
BBBS of Eastern Missouri | 90CV0244 | 116,444
BBBS of Central Iowa | 90CV0253 | 29,111
Center for Children, Inc. MD | 90CV0254 | 18,755
Volunteers in Prevention | 90CV0260 | 107,711
Community Drop In Center | 90CV0262 | 16,786
Greenhope Services for Women | 90CV0266 | 70,572
Missoula Cty, MT | 90CV0268 | 29,405
Franklin Williamson Human Services | 90CV0272 | 47,709
BBBS of Bismarck, ND | 90CV0274 | 32,192
Centerforce, CA | 90CV0293 | 32,942
Pima Prevention Partnership, AZ | 90CV0304 | 88,742
New York Youth at Risk | 90CV0280 | 32,492
Boys and Girls Club of Benton County, Inc. | 90CY0257 | 73,362

FOR FURTHER INFORMATION CONTACT: Curtis O. Porter, Acting Associate Commissioner, Family and Youth Services Bureau, ACYF, ACF, DHHS. Portals Building, 1250 Maryland Avenue, SW., Washington, DC 20024; 202-205-8102.

Dated: September 28, 2007.
Susan Orr,
Associate Commissioner, Administration on Children, Youth and Families.

[FR Doc. E7-19890 Filed 10-9-07; 8:45 am]

BILLING CODE 4184-01-P